FEDERAL RESERVE SYSTEM

Formations of, Acquisitions by, and Mergers of Bank Holding Companies; Correction

This notice corrects a notice (FR Doc. E8-25509) published on page 63711 of the issue for Monday, October 27, 2008.

Under the Federal Reserve Bank of Kansas City heading, the entry for Lindoe, Inc., Ordway, Colorado, is revised to read as follows:

A. Federal Reserve Bank of Kansas City (Todd Offenbacker, Assistant Vice President) 1 Memorial Drive, Kansas City, Missouri 64198-0001:

1. Lindoe, Inc., Ordway, Colorado, to acquire up to 100 percent of the voting shares of Southern Colorado National Bancorporation, Inc., and thereby indirectly acquire voting shares of Southern Colorado National Bank, both of Pueblo, Colorado.

Comments on this application must be received by November 24, 2008.

Board of Governors of the Federal Reserve System, November 4, 2008.
Jennifer J. Johnson,
Secretary of the Board.

[FR Doc. E8-26602 Filed 11-6-08; 8:45 am]

BILLING CODE 6210-01-S